ENVIRONMENTAL PROTECTION AGENCY

[FRL-9786-8]

EPA Office of External Affairs and Environmental Education; Request for Nominations of Candidates for the National Environmental Education Advisory Council (Sub-Committee)

AGENCY: Environmental Protection Agency (EPA).

ACTION: Notice.

SUMMARY: The U.S. Environmental Protection Agency (EPA or Agency) Office of External Affairs and Environmental Education Staff Office is soliciting applications, for professionals to serve on the National Environmental Education Advisory Council (NEEAC) sub-committee. There are multiple vacancies on the Advisory Council (sub-committee) that must be filled. Additional avenues and resources may be utilized in the solicitation of applications. In an effort to obtain nominations of diverse candidates, EPA encourages nominations of women and men of all racial and ethnic groups.

DATES: Applications should be submitted by March 25, 2013 per instructions below.

ADDRESSES: Submit non-electronic application materials to Javier Araujo, Designated Federal Officer, National Environmental Education Advisory Council, U.S. Environmental Protection Agency, Office of External Affairs and Environmental Education (MC:1704A), 1200 Pennsylvania Ave. NW., Room 1426(ARN), Washington, DC 20460, Ph: 202-564-2642, FAX: 202-564-2753, email: araujo.javier@epa.gov.

FOR FURTHER INFORMATION CONTACT: For information regarding this Request for Nominations, please contact Mr. Javier Araujo, Designated Federal Officer (DFO), EPA National Environmental Education Advisory Council, at araujo.javier@epa.gov or (202) 564-2642. General information concerning NEEAC can be found on the EPA Web site at: http://www.epa.gov/enviroed/.

SUPPLEMENTARY INFORMATION: The National Environmental Education Advisory Council Subcommittee members will serve as representative members. This subcommittee will report to the National Environmental Education Advisory Council. The professional backgrounds of Council members should include education, science, policy, or other appropriate disciplines. Each member of the Council shall hold office for a one (1) to three (3) year period. Members are expected to participate in up to two (2) meetings per year and monthly or more conference calls per year. Subcommittee members of the Council will not receive compensation.

Nominees should demonstrate experience in any of the following areas: Environmental education, public-private partnerships, environmental or educational project financing, nonprofit organizations representing specific demographics, private sector sustainability practices, formal education from K-12, community college and/or technical school education.

Nominations should include a resume and a letter of recommendation from the group or entity the nominee would represent. Nominees should be team players who demonstrate strong analytical, communication and writing skills.

How to Submit Applications: Any interested and qualified individuals may be considered for appointment on the National Environmental Education Advisory Council (subcommittee). Applications should be submitted in electronic format to the Designated Federal Officer, Javier Araujo, araujo.javier@epa.gov and contain the following: Contact information including name, address, phone and fax numbers and an email address; a curriculum vitae or resume; the specific area of expertise in environmental education and the sector/slot the applicant is applying for; recent service on other national advisory committees or national professional organizations, and; a one-page commentary on the applicant's philosophy regarding the need for, development, implementation and/or management of environmental education nationally.

Persons having questions about the application procedure or who are unable to submit applications by electronic means, should contact Javier Araujo, DFO, at the contact information provided above in this notice. Non-electronic submissions must contain the same information as the electronic. The NEEAC Staff Office will acknowledge receipt of the application. The NEEAC Staff Office will develop a short list of candidates for more detailed consideration.

Dated: February 6, 2013.
Javier Araujo,
Designated Federal Officer.

[FR Doc. 2013-04923 Filed 3-1-13; 8:45 am]

BILLING CODE 6560-50-P